ENVIRONMENTAL PROTECTION AGENCY

40 CFR Part 268

[SWH-FRL-7099-2]

RIN 2050-AE49

Hazardous Waste Management System; Identification and Listing of Hazardous Waste: Inorganic Chemical Manufacturing Wastes; Land Disposal Restrictions for Newly Identified Wastes; and CERCLA Hazardous Substance Designation and Reportable Quantities

Correction

In rule document 01-27833 beginning on page 58257 in the issue of Tuesday, November 20, 2001, make the following correction:

Due to several errors, the table titled “TREATMENT STANDARDS FOR HADARDOUS WASTES” that appears on pages 58298 and 58299 is being reprinted in its entirety.

§ 268.40 [Corrected]

* * * * *

Treatment Standards for Hazardous Wastes
[Note: NA means not applicable]
Waste code | Waste description and treatment/regulatory Subcategory ¹ | Regulated hazardous constituent: Common name | Regulated hazardous constituent: CAS ² No. | Wastewaters: Concentration in mg/L ³, or Technology Code ⁴ | Nonwastewaters: Concentration in mg/kg ⁵ unless noted as “mg/L TCLP”, or Technology Code
* * * * * * *
K176 | Baghouse filters from the production of antimony oxide, including filters from the production of intermediates (e.g., antimony metal or crude antimony oxide) | Antimony Arsenic Cadmium Lead Mercury | 7440-36-0 7440-38-2 7440-43-9 7439-92-1 7439-97-6 | 1.9 1.4 0.69 0.69 0.15 | 1.15 mg/L TCLP 5.0 mg/L TCLP 0.11 mg/L TCLP 0.75 mg/L TCLP 0.025 mg/L TCLP
K177 | Slag from the production of antimony oxide that is speculatively accumulated or disposed, including slag from the production of intermediates (e.g., antimony metal or crude antimony oxide) | Antimony Arsenic Lead | 7440-36-0 7440-38-2 7439-92-1 | 1.9 1.4 0.69 | 1.15 mg/L TCLP 5.0 mg/L TCLP 0.75 mg/L TCLP
K178 | Residues from manufacturing and manufacturing-site storage of ferric chloride from acids formed during the production of titanium dioxide using the chloride-ilmenite process. | 1,2,3,4,6,7,8- Heptachlorodibenzo-p-dioxin (1,2,3,4,6,7,8-HpCDD) 1,2,3,4,6,7,8- Heptachlorodibenzofuran (1,2,3,4,6,7,8-HpCDF) 1,2,3,4,7,8,9- Heptachlorodibenzofuran (1,2,3,4,7,8,9-HpCDF) | 35822-39-4 67562-39-4 55673-89-7 | 0.000035 or CMBST ¹¹ 0.000035 or CMBST ¹¹ 0.000035 or CMBST ¹¹ | 0.0025 or CMBST ¹¹ 0.0025 or CMBST ¹¹ 0.0025 or CMBST ¹¹
|  | HxCDDs (All Hexachlorodibenzo-p-dioxins) | 34465-46-8 | 0.000063 or CMBST ¹¹ | 0.001 or CMBST ¹¹ |
|  | HxCDFs (All Hexachlorodibenzo-furans) | 55684-94-1 | 0.000063 or CMBST ¹¹ | 0.001 or CMBST ¹¹ |
|  | 1,2,3,4,6,7,8,9- Octachlorodibenzo-p-dioxin (OCDD) | 3268-87-9 | 0.000063 or CMBST ¹¹ | 0.005 or CMBST ¹¹ |
|  | 1,2,3,4,6,7,8,9- Octachlorodibenzofuran (OCDF) | 39001-02-0 | 0.000063 or CMBST ¹¹ | 0.005 or CMBST ¹¹ |
|  | PeCDDs (All Pentachlorodibenzo-p-dioxins) | 36088-22-9 | 0.000063 or CMBST ¹¹ | 0.001 or CMBST ¹¹ |
|  | PeCDFs (All Pentachlorodibenzo-furans) | 30402-15-4 | 0.000035 or CMBST ¹¹ | 0.001 or CMBST ¹¹ |
|  | TCDDs (All tetrachlorodibenzo-p-dioxins) | 41903-57-5 | 0.000063 or CMBST ¹¹ | 0.001 or CMBST ¹¹ |
|  | TCDFs (All tetrachlorodibenzo-furans) | 55722-27-5 | 0.000063 or CMBST ¹¹ | 0.001 or CMBST ¹¹ |
|  | Thallium | 7440-28-0 | 1.4 | 0.20 mg/L TCLP |
* * * * * * *
* * * * *
Footnotes to Treatment Standard Table 268.40:
¹ The waste descriptions provided in this table do not replace waste descriptions in 40 CFR part 261. Descriptions of Treatment/Regulatory Subcategories are provided, as needed, to distinguish between applicability of different standards.
² CAS means Chemical Abstract Services. When the waste code and/or regulated constituents are described as a combination of a chemical with its salts and/or esters, the CAS number is given for the parent compound only.
³ Concentration standards for wastewaters are expressed in mg/L and are based on analysis of composite samples.
⁴ All treatment standards expressed as a Technology Code or combination of Technology Codes are explained in detail in 40 CFR 268.42 Table 1—Technology Codes and Descriptions of Technology-Based Standards.
⁵ Except for Metals (EP or TCLP) and Cyanides (Total and Amenable) the nonwastewater treatment standards expressed as a concentration were established, in part, based upon incineration in units operated in accordance with the technical requirements of 40 CFR part 264, Subpart O or 40 CFR part 265, Subpart O, or based upon combustion in fuel substitution units operating in accordance with applicable technical requirements. A facility may comply with these treatment standards according to provisions in 40 CFR 268.40(d). All concentration standards for nonwastewaters are based on analysis of grab samples.
* * * * *
¹¹ For these wastes, the definition of CMBST is limited to: (1) combustion units operating under 40 CFR 266, (2) combustion units permitted under 40 CFR part 264, Subpart O, or (3) combustion units operating under 40 CFR 265, Subpart O, which have obtained a determination of equivalent treatment under 268.42(b).
* * * * *

[FR Doc. C1-27833 Filed 4-8-02; 8:45 am]

BILLING CODE 1505-01-D